DEPARTMENT OF VETERANS AFFAIRS

[OMB Control No. 2900-NEW]

Proposed Information Collection (Wrist Conditions Disability Benefits Questionnaire) Activity: Withdrawal

AGENCY: Veterans Benefits Administration, Department of Veterans Affairs.

ACTION: Notice; withdrawal.

SUMMARY: The Department of Veterans Affairs (VA) published a notice in a Federal Register on June 17, 2013 (78 FR 36307), inviting the public to comment on a proposed information collection titled “Wrist Conditions Disability Benefits Questionnaire, VA Form 21-0960M-16.” On June 18, 2013 (78 FR 36643), VA inadvertently published an identical notice for the same information collection. This document corrects that error by withdrawing the FR notice that published on June 18, 2013 (FR Doc 2013-14412).

DATES: Written comments and recommendations on the proposed collection of information notice that published on June 17, 2013 (78 FR 36307) should be received on or before August 16, 2013.

FOR FURTHER INFORMATION CONTACT: Crystal Rennie, Enterprise Records Service (005R1B), Department of Veterans Affairs, 810 Vermont Avenue NW., Washington, DC 20420, at (202) 632-7492.

FR Doc. 2013-14412, published on June 18, 2011 (78 FR 36643), is withdrawn by this notice.

Robert C. McFetridge,
Director, Office of Regulation Policy and Management, Office of the General Counsel, Department of Veterans Affairs.

[FR Doc. 2013-17748 Filed 7-23-13; 8:45 am]

BILLING CODE 8320-01-P